DEPARTMENT OF HEALTH AND HUMAN SERVICES

Substance Abuse and Mental Health Services Administration

Advisory Committee for Women's Services (ACWS); Notice of Meeting

Pursuant to Public Law 92-463, notice is hereby given of a meeting of the Substance Abuse and Mental Health Services Administration's (SAMHSA) Advisory Committee for Women's Services (ACWS) on April 15, 2015.

The meeting will include discussions on lesbian, bisexual and transgender issues; high-risk/high-need girls and young women; supporting women in co-ed settings—core competencies, practices and strategies; SAMHSA's Pregnant and Post-Partum Women Grant Program; and a conversation with the SAMHSA Administrator.

The meeting is open to the public and will be held at SAMHSA, 1 Choke Cherry Road, Rockville, MD 20850, in the Rock Creek Conference Room. Attendance by the public will be limited to space available. Interested persons may present data, information, or views, orally or in writing, on issues pending before the Committee. Written submissions should be forwarded to the contact person (below) on or before April 7, 2015. Oral presentations from the public will be scheduled at the conclusion of the meeting. Individuals interested in making oral presentations are encouraged to notify the contact person on or before April 7, 2015. Five minutes will be allotted for each presentation.

The meeting may be accesed via telephone. To attend on site, obtain the call-in number and access code, submit written or brief oral comments, or request special accommodations for persons with disabilities, please register on-line at: http://nac.samhsa.gov/Registration/meetingsRegistration.aspx, or communicate with SAMHSA's Designated Federal Officer, Ms. Nadine Benton (see contact information below).

Substantive meeting information and a roster of Committee members may be obtained either by accessing the SAMHSA Committees' Web site at: http://www.samhsa.gov/about-us/advisory-councils/advisory-committee-women%E2%80%99s-services-awcs, or by contacting Ms. Benton.

Committee Name: Substance Abuse and Mental Health Services Administration Advisory Committee for Women's Services (ACWS).

Date/Time/Type: Wednesday, April 15, 2015, from 9:00 a.m. to 5:15 p.m. EDT: Open.

Place: SAMHSA, 1 Choke Cherry Road, Rock Creek Conference Room, Rockville, Maryland 20850.

Contact: Nadine Benton, Designated Federal Official, SAMHSA's Advisory Committee for Women's Services, 1 Choke Cherry Road, Rockville, Maryland 20857 (mail), Telephone: (240) 276-0127, Fax: (240) 276-2252, Email: nadine.benton@samhsa.hhs.gov.

Summer King,
Statistician, SAMHSA.

[FR Doc. 2015-05816 Filed 3-12-15; 8:45 am]

BILLING CODE 4162-20-P